OFFICE OF THE UNITED STATES TRADE REPRESENTATIVE

African Growth and Opportunity Act (AGOA): Request for Public Comments on Annual Review of Country Eligibility for Benefits Under AGOA in Calendar Year 2016; Scheduling of Hearing, and Request for Public Comments

AGENCY: Office of the United States Trade Representative.

ACTION: Notice and request for comments; notice of hearing.

SUMMARY: This notice announces the initiation the annual review of the eligibility of the sub-Saharan African countries to receive the benefits of the African Growth and Opportunity Act (AGOA). The AGOA Implementation Subcommittee of the Trade Policy Staff Committee (Subcommittee) is developing recommendations for the President on AGOA country eligibility for calendar year 2016. The Subcommittee is requesting written public comments for this review and will conduct a public hearing on this matter. The Subcommittee will consider the written comments, written testimony, and oral testimony in developing recommendations for the President. Comments received related to the child labor criteria may also be considered by the Secretary of Labor in the preparation of the Department of Labor's report on child labor as required under section 412(c) of the Trade and Development Act of 2000. This notice identifies the eligibility criteria under AGOA that must be considered under AGOA, and lists those sub-Saharan African countries that are currently eligible for the benefits of AGOA and those that were ineligible for such benefits in 2015. Pursuant to the Trade Preferences Extension Act of 2015 (TPEA), this year's review of the Republic of South Africa's eligibility is being considered in a separate out of cycle review (see 80 FR 43156).

DATES:

September 3, 2015: Deadline for filing requests to appear at the September 10, 2015 public hearing, and for filing pre-hearing briefs, statements, or comments on sub-Saharan African countries' AGOA eligibility.

September 10, 2015: AGOA Implementation Subcommittee of the TPSC will convene a public hearing on AGOA eligibility.

September 16, 2015: Deadline for filing post-hearing briefs, statements, or comments on this matter.

ADDRESSES: USTR strongly prefers electronic submissions made at www.regulations.gov, docket number USTR-2015-0011. See “Requirements for Submission,” below. If you are unable to make a submission at www.regulations.gov, please contact Yvonne Jamison, Office of the U.S. Trade Representative, at (202) 395-3475 to make other arrangements.

FOR FURTHER INFORMATION CONTACT: For procedural questions, please contact Yvonne Jamison, Office of the U.S. Trade Representative, 600 17th Street NW., Room F516, Washington, DC 20508, at (202) 395-3475. All other questions should be directed to Constance Hamilton, Deputy Assistant U.S. Trade Representative for Africa, Office of the U.S. Trade Representative, at (202) 395-9514.

SUPPLEMENTARY INFORMATION: AGOA (Title I of the Trade and Development Act of 2000, Pub. L. 106-200) (19 U.S.C. 2466a et seq.), as amended, authorizes the President to designate sub-Saharan African countries as beneficiary sub-Saharan African countries eligible for duty-free treatment for certain additional products not included for duty-free treatment under the Generalized System of Preferences (GSP) (Title V of the Trade Act of 1974 (19 U.S.C. 2461 et seq.) (the “1974 Act”)), as well as for the preferential treatment for certain textile and apparel articles.

The President may designate a country as a beneficiary sub-Saharan African country eligible for these benefits of AGOA if he determines that the country meets the eligibility criteria set forth in: (1) Section 104 of AGOA (19 U.S.C. 3703); and (2) section 502 of the 1974 Act (19 U.S.C. 2462).

Section 104 of AGOA includes requirements that the country has established or is making continual progress toward establishing, inter alia: A market-based economy; the rule of law, political pluralism, and the right to due process; the elimination of barriers to U.S. trade and investment; economic policies to reduce poverty; a system to combat corruption and bribery; and the protection of internationally recognized worker rights. In addition, the country may not engage in activities that undermine U.S. national security or foreign policy interests or engage in gross violations of internationally recognized human rights. Please see section 104 of AGOA and section 502 of the 1974 Act for a complete list of the AGOA eligibility criteria.

Recognizing that concerns have been raised about the compliance with section 104 of AGOA of certain beneficiary sub-Saharan African countries, Section 105(d)(4)(E) of the TPEA (Pub. L. 114-27) requires the President to initiate an out-of-cycle review not later than 30 days after the date of the enactment of the TPEA with respect to whether the Republic of South Africa is meeting the eligibility requirements set forth in section 104 of AGOA and section 502 of the 1974 Act. The Subcommittee is therefore conducting this year's review of South Africa's eligibility under a separate process (see 80 FR 43156).

Section 506A of the 1974 Act provides that the President shall monitor and review annually the progress of each sub-Saharan African country in meeting the foregoing eligibility criteria in order to determine whether each beneficiary sub-Saharan African country should continue to be eligible, and whether each sub-Saharan African country that is currently not a beneficiary sub-Saharan African country, should be designated as such a country. If the President determines that a beneficiary sub-Saharan African country is not making continual progress in meeting the eligibility requirements, he must terminate the designation of the country as a beneficiary sub-Saharan African country. Pursuant to the TPEA, however, the President may also withdraw, suspend, or limit the application of duty-free treatment with respect to specific articles from a country if he determines that it would be more effective in promoting compliance with AGOA-eligibility requirements than terminating the designation of the country as a beneficiary sub-Saharan African country.

For 2015, 39 countries were designated as beneficiary sub-Saharan African countries. These countries, as well as the countries currently designated as ineligible, are listed below. The Subcommittee is seeking public comments in connection with the annual review of sub-Saharan African countries' eligibility for AGOA's benefits. The Subcommittee will consider any such comments in developing recommendations to the President related to this review. Comments related to the child labor criteria may also be considered by the Secretary of Labor in making the findings required under section 504 of the 1974 Act.

The following sub-Saharan African countries were designated as beneficiary sub-Saharan African countries in 2015:

Angola

Republic of Benin

Republic of Botswana

Burkina Faso

Burundi

Republic of Cabo Verde

Republic of Cameroon

Republic of Chad

Federal Islamic Republic of Comoros

Republic of Congo

Republic of Cote d'Ivoire

Republic of Djibouti

Ethiopia

Gabonese Republic

Republic of Ghana

Republic of Guinea

Republic of Guinea-Bissau

Republic of Kenya

Kingdom of Lesotho

Republic of Liberia

Republic of Madagascar

Republic of Malawi

Republic of Mali

Islamic Republic of Mauritania

Republic of Mauritius

Republic of Mozambique

Republic of Namibia

Republic of Niger

Federal Republic of Nigeria

Republic of Rwanda

Sao Tome & Principe

Republic of Senegal

Republic of Seychelles

Republic of Sierra Leone

Republic of South Africa

United Republic of Tanzania

Republic of Togo

Republic of Uganda

Republic of Zambia

The following sub-Saharan African countries were not designated as beneficiary sub-Saharan African countries in 2015:

Central African Republic

Democratic Republic of Congo

The Gambia

Republic of Equatorial Guinea

State of Eritrea

Somalia

Republic of South Sudan

Republic of Sudan

Kingdom of Swaziland

Republic of Zimbabwe

Notice of Public Hearing

In addition to written comments from the public on the matters listed above, the Subcommittee of the TPSC will convene a public hearing at 9:30 a.m. on Thursday, September 10, 2015, to receive testimony related to sub-Saharan African countries' eligibility for AGOA's benefits. Requests to present oral testimony at the hearing and pre-hearing briefs, statements, or comments must be received by September 3, 2015.

The hearing will be held at 1724 F Street NW., Washington, DC 20508 and will be open to the public and to the press. A transcript of the hearing will be made available on www.regulations.gov within approximately two weeks of the hearing.

All interested parties wishing to present oral testimony at the hearing must submit, following the “Requirements for Submissions” set out below, the name, address, telephone number, and email address, if available, of the witness(es) representing their organization by 5 p.m., Thursday, September 3, 2015. The intent to testify notification must be made in the “Type Comment” field under docket number USTR-2015-0011 on the regulations.gov Web site and should include the name, address, and telephone number of the person presenting the testimony. A summary of the testimony should be attached by using the “Upload File” field. The name of the file should also include who will be presenting the testimony. Remarks at the hearing should be limited to no more than five minutes to allow for possible questions from the TPSC.

All documents should be submitted in accordance with the instructions below.

Requirements for Submissions

Persons submitting a notification of intent to testify and/or written comments must do so electronically by 5:00 p.m., Thursday, September 3, 2015, using www.regulations.gov, docket number USTR-2015-0011. Instructions for submitting business confidential versions are provided below. Hand-delivered submissions will not be accepted. All written materials must be submitted in English to the Chairman of the AGOA Implementation Subcommittee of the TPSC.

Business Confidential Submissions

An interested party requesting that information contained in a submission be treated as business confidential information must certify that such information is business confidential and would not customarily be released to the public by the submitter. Confidential business information must be clearly designated as such. The submission must be marked “BUSINESS CONFIDENTIAL” at the top and bottom of the cover page and each succeeding page, and the submission should indicate, via brackets, the specific information that is confidential. Additionally, “Business Confidential” must be included in the “Type Comment” field. For any submission containing business confidential information, a non-confidential version must be submitted separately (i.e., not as part of the same submission with the confidential version), indicating where confidential information has been redacted. The non-confidential version will be placed in the docket and open to public inspection.

Public Viewing of Review Submissions

Submissions in response to this notice, except for information granted “business confidential” status under 15 CFR 2003.6, will be available for public viewing pursuant to 15 CFR 2007.6 at www.regulations.gov upon completion of processing. Such submissions may be viewed by entering the country-specific docket number in the search field at www.regulations.gov.

Edward Gresser,
Acting Chair, Trade Policy Staff Committee.

[FR Doc. 2015-20142 Filed 8-13-15; 8:45 am]

BILLING CODE 3290-F5-P